DEPARTMENT OF COMMERCE

National Oceanic and Atmospheric Administration

Federal Consistency Appeal by Luz Torres DeRosa, Pedro Vidal, Frontera Colley and Fernando E. Otero Rodriguez From Objections by the Puerto Rico Planning Board

AGENCY: National Oceanic and Atmospheric Administration.

ACTION: Notice of appeals and request for comments.

SUMMARY: Luz Torres DeRosa, Pedro Vidal, Frontera Colley and Fernando E. Otero Rodriguez (Appellants), filed with the Secretary of Commerce (Secretary) four separate notices of appeal pursuant to section 307(c)(3)(A) of the Coastal Zone Management Act of 1972 (CZMA), as amended, 16 U.S.C. 1451 et seq., and the Department of Commerce's implementing regulations, 15 CFR part 930, subpart H. The appeals are taken from objections by the Puerto Rico Planning Board (PRPB) to the Appellants' consistency certifications for U.S. Army Corps of Engineers' permits for the reconstruction of stilt houses. The proposed projects are located within the maritime-terrestrial zone, territorial waters and submerged lands.

DATES: Public comments on the appeals are due within 30 days of the publication of this notice.

ADDRESSES: Comments should be sent to Mary Elliott Rolle, Attorney-Adviser, Office of the Assistant General Counsel for Ocean Services, National Oceanic and Atmospheric Administration, U.S. Department of Commerce, 1305 East-West Highway, Room 6111, Silver Spring, MD 20910. Public filings made by the parties to the appeals may be available at the NOAA Office of the Assistant General Counsel for Ocean Services and the Puerto Rico Planning Board, Minillas Government Center, North Building, De Diego Ave. Stop 22, San Juan, Puerto Rico 00940-1119.

FOR FURTHER INFORMATION CONTACT: Mary Elliott Rolle, Attorney-Adviser, Office of the Assistant General Counsel for Ocean Services, National Oceanic and Atmospheric Administration, U.S. Department of Commerce, 1305 East-West Highway, Room 6111, Silver Spring, MD 20910 or at 301-713-2967, extension 216.

SUPPLEMENTARY INFORMATION:

I. Notice of Appeals

Luz Torres DeRosa, Pedro Vidal, Frontera Colley and Fernando E. Otero Rodriguez (Appellants), filed with the Secretary of Commerce (Secretary) four separate notices of appeal pursuant to section 307(c)(3)(A) of the Coastal Zone Management Act of 1972 (CZMA), as amended, 16 U.S.C. 1451 et seq., and the Department of Commerce's implementing regulations, 15 CFR part 930, subpart H. The regulations have been revised as of January 8, 2000. These matters fall under the old regulations in place at the time of the filings of these appeals. The appeals are taken from objections by the Puerto Rico Planning Board (PRPB) to the Appellants' consistency certifications for U.S. Army Corps of Engineers' permits for the reconstruction of stilt houses. The proposed projects are located within the maritime-terrestrial zone, territorial waters and submerged lands.

The CZMA provides that a timely objection by a state precludes any federal agency from issuing licenses or permits for an activity unless the Secretary finds that the activity is either “consistent with the objectives” of the CZMA (Ground I) or “necessary in the interest of national security” (Ground II). Section 307(c)(3)(A). To make such a determination, the Secretary must find that the proposed project satisfies the requirements of 15 CFR 930.121 or 930.122.

The Appellants request that the Secretary override the Board's consistency objections based on Ground I. To make the determination that a proposed activity is “consistent with the objectives” of the CZMA, the Secretary must find that: (1) The proposed activity furthers one or more of the competing national objectives or purposes contained in section 302 or 303 of the CZMA; (2) the national interest furthered by the proposed activity outweighs the activity's adverse coastal effects, when those effects are considered separately or cumulatively; (3) the activity will not violate any requirements of the Clean Air Act, as amended, or the Federal Water Pollution Control Act, as amended; and (4) no reasonable alternative is available that would permit the proposed activity to be conducted in a manner consistent with the enforceable policies of Puerto Rico's coastal zone management program. See 15 CFR 930.121.

II. Public Comments

Public comments are invited on the findings that the Secretary must make as set forth in the regulations at 15 CFR 930.121. Comments are due within 30 days of the publication of this notice and should be sent to Mary Elliott Rolle, Attorney-Adviser, Office of the Assistant General Counsel for Ocean Services, National Oceanic and Atmospheric Administration, U.S. Department of Commerce, 1305 East-West Highway, Room 6111, Silver Spring, MD 20910. Copies of comments will also be forwarded to the Appellant and the State.

III. Appeal Documents

All nonconfidential documents submitted in this appeal are available for public inspection during business hours at the NOAA Office of the Assistant General Counsel for Ocean Services and the Puerto Rico Planning Board.

(Federal Domestic Assistance Catalog No. 11.419 Coastal Zone Management Program Assistance.)
Dated: April 23, 2003.
James R. Walpole,
General Counsel.

[FR Doc. 03-10754 Filed 4-30-03; 8:45 am]

BILLING CODE 3510-08-M